DEPARTMENT OF LABOR

Mine Safety and Health Administration

Petitions for Modification

The following parties have filed petitions to modify the application of existing safety standards under section 101(c) of the Federal Mine Safety and Health Act of 1977.

1. Wabash Mine Holding Company

[Docket No. M-2001-098-C]

Wabash Mine Holding Company, One Oxford Centre, 301 Grant Street, 20th Floor, Pittsburgh, Pennsylvania 15219 has filed a petition to modify the application of 30 CFR 75.332(a)(2) (working sections and working places) to its Wabash Mine (I.D. No. 11-00877) located in Wabash County Illinois. The petitioner requests that Item 29 of the Proposed Decision and Order for its previously granted petition for modification, docket number M-1999-095-C be amended to permit the scrubber system to be operational and maintained to provide 6,500 cfm instead of 7,500 cfm of output capacity while cleanup is being performed. The petitioner asserts that the proposed alternative method would provide at least the same measure of protection as the existing standard.

2. Hopkins County Coal, LLC

[Docket No. M-2001-099-C]

Hopkins County Coal, LLC, P.O. Box 711, Madisonville, Kentucky 42431 has filed a petition to modify the application of 30 CFR 75.364(b)(2) (weekly examination) to its Island Mine No. 1 (I.D. No. 15-17515) located in Hopkins County, Kentucky. The petitioner requests a modification of the standard to permit evaluation points (A, inby and B, outby) in lieu of traveling approximately 75 feet of the return air course. The petitioner states that due to deteriorating roof conditions, traveling the affected area would be unsafe. The petitioner proposes to: (1) Establish evaluation points outby the #3 entry at/near spad #22+21/3 and inby at/near spad #23+21/3, to provide ingress/egress to the outby evaluation point (B) at crosscut #43 and to provide ingress/egress to the inby evaluation point (A) at crosscut #51; (ii) post signs in strategic locations that would direct personnel to each evaluation point; and (iii) have a certified person examine the evaluation points on a weekly basis to determine methane and oxygen concentrations, quantity of air, and to determine if the air is moving in the proper direction and record the results of the examinations in a book maintained on the surface. The petitioner asserts that the proposed alternative method would provide at least the same measure of protection as the existing standard.

3. San Juan Coal Company

[Docket No. M-2001-100-C]

San Juan Coal Company, P.O. Box 561, Waterflow, New Mexico 87421 has filed a petition to modify the application of 30 CFR 75.362(d)(2) (on-shift examination) to its San Juan South Mine (I.D. No. 29-02170) and San Juan Deep Mine (I.D. No. 29-02201) both located in San Juan County, New Mexico. The petitioner proposes to: (i) Equip each continuous miner with a General Monitor S800 Methane Monitor with detection sensors near the cutter drum and one sensor on each side of the machine; (ii) equip each roof-bolting machine with a General Monitors S800 Methane Monitor that would have detection sensors on ATRS for a total of one sensor; and (iii) to conduct tests every twenty minutes at the operator's station while operating the roof-bolting machine on or inby the last open crosscut. The petitioner states that the methane monitor would provide a visual alert when the methane concentration reaches 1 percent and provide automatic shutdown when the methane concentration reaches 2 percent at any of the sensors, the monitors would provide continuous monitoring of the methane content rather than just testing every twenty minutes and would test for methane near the roof where methane is likely to be found, the monitors would calibrated with a known concentration of methane at intervals not to exceed 31 days, and that calibration would be performed by a certified person. The petitioner asserts that the proposed alternative method would provide at least the same measure of protection as the existing standard.

4. Canyon Fuel Company, LLC

[Docket No. M-2001-101-C]

Canyon Fuel Company, LLC, P.O. Box 1029, Wellington, Utah 84542 has filed a petition to modify the application of 30 CFR 75.500(d) (permissible electric equipment) to its Dugout Canyon Mine (I.D. No, 42-01890) located in Carbon County, Utah. The petitioner proposes to use the following non-permissible low-voltage or battery powered electronic testing and diagnostic equipment inby the last open crosscut: Lap top computers, oscilloscopes, vibration analysis machines, cable fault detectors, point temperature probes, infrared temperature devices and recorders, pressure and flow measurement devices, signal analyzer devices, ultrasonic thickness gauges, electronic component testers, and electronic tachometers, and may use other testing and diagnostic equipment if approved by the District Office. The petitioner states that all other tests and diagnostic equipment use in or inby the last open crosscut will be permissible. The petitioner has listed in this petition for modification specific procedures that would be followed when using this equipment. The petitioner asserts that the proposed alternative method would provide at least the same measure of protection as the existing standard.

5. Canyon Fuel Company, LLC

[Docket No. M-2001-102-C]

Canyon Fuel Company, LLC, P.O. Box 1029, Wellington, Utah 84542 has filed a petition to modify the application of 30 CFR 75.1001-1(a) (location of other electric equipment; requirements for permissibility) to its Dugout Canyon Mine (I.D. No. 42-01890) located in Carbon County, Utah. The petitioner proposes to use the following non-permissible low-voltage or battery powered electronic testing and diagnostic equipment in by the last open crosscut: Lap top computers, oscilloscopes, vibration analysis machines, cable fault detectors, point temperature probes, infrared temperature devices and recorders, pressure and flow measurement devices, signal analyzer devices, ultrasonic thickness gauges, electronic component testers, and electronic tachometers, and may use other testing and diagnostic equipment if approved by the District Office. The petitioner states that all other test and diagnostic equipment use in or in by the last open crosscut will be permissible. The petitioner has listed in this petition for modification specific procedures that would be followed when using this equipment. The petitioner asserts that the proposed alternative method would provide at least the same measure of protection as the existing standard.

6. Consol Pennsylvania Coal Company

[Docket No. M-2001-103-C]

Consol Pennsylvania Coal Company, Consol Plaza, 1800 Washington Road, Pittsburgh, Pennsylvania 15241-1421 has filed a petition to modify the application of 30 CFR 75.312 (c) and (d) (main mine fan examinations and records) to its Enlow Fork Mine (I.D. No. 36-07416) located in Greene County, Pennsylvania. The petitioner requests a modification of the standard to permit testing of the automatic closing door(s) and the automatic fan signal device at least every 31 days without shutting down the fan and without removing miners from the mine. The petitioner asserts that the proposed alternative method would provide at least the same measure of protection as the existing standard.

7. Oxbow Mining, Inc.

[Docket No. M-2001-104-C]

Oxbow Mining, Inc., 3737 Hwy 133, P.O. Box 535, Somerset, Colorado 81434 has filed a petition to modify the application of 30 CFR 75.1002 (location of trolley wires, trolley feeder wires, high-voltage cables and transformers) to its Elk Creek Mine (I.D. No. 05-04674) located in Gunnison County, Colorado. The petitioner proposes to use a 2,400-volt longwall power circuit in the active pillar workings. The petitioner has listed in this petition specific procedures for implementing its proposed alternative method. The petitioner asserts that the proposed alternative method would provide at least the same measure of protection as the existing standard and has listed specific procedures in this petition for modification for implementing the alternative method.

8. Oxbow Mining, Inc.

[Docket No. M-2001-105-C]

Oxbow Mining, Inc., 3737 Hwy 133, P.O. Box 535, Somerset, Colorado 81434 has filed a petition to modify the application of 30 CFR 75.804(a) (underground high-voltage cables) to its Elk Creek Mine (I.D. No. 05-04674) located in Gunnison County, Colorado. The petitioner requests a modification of the standard to allow the use of a No. 16 A.W.G. ground check conductor in a high-voltage cable. The petitioner proposes to use the following flame-resistant cables on the high-voltage longwall system(s): Anaconda Type SHD+GC, Pirelli Type SHD-Center-GC, Tiger Brand Type SHD-CGC, and other brands of cable of identical construction. The petitioner asserts that these brands of cable utilize a flexible No. 16 A.W.G. ground check conductor for the ground continuity check circuit and that the proposed alternative method would provide at least the same measure of protection as the existing standard.

9. FMC Westvaco

[Docket No. M-2001-005-M]

FMC Westvaco, FMC Corporation, Box 872, Green River, Wyoming 82935 has filed a petition to modify the application of 30 CFR 57.22305 (approved equipment (III mines)) to its FMC Trona Mine (I.D. No. 48-00152) located in Sweetwater County, Wyoming. The petitioner requests a modification of the standard to permit the use of portable low power 0.5-2.0 watt radios for communication in face areas. The petitioner proposes to use (Audiovox, or equivalent) radios inby the last open break or face areas of the time to improve communications, conduct examinations to test for methane in the mine atmosphere at least every ten minutes before using the radios in the face area, and instruct all mine employees in the petition requirements and complete training forms before using the radios. The petitioner states that these radios would not be used where methane is 1.0 percent or more, or in the same mining section where blasting is taking place. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4014 Wilson Boulevard, Room 627, Arlington, Virginia 22203. All comments must be postmarked or received in that office on or before January 16, 2002. Copies of these petitions are available for inspection at that address.

Dated at Arlington, Virginia this 10th day of December 2001.
David L. Meyer,
Director, Office of Standards, Regulations, and Variances.

[FR Doc. 01-30940 Filed 12-14-01; 8:45 am]

BILLING CODE 4510-43-M